DEPARTMENT OF AGRICULTURE

Animal and Plant Health Inspection Service

[Docket No. 05-058-1]

Notice of Public Meeting on the Proposed Design and Development of an ePermits System

AGENCY: Animal and Plant Health Inspection Service, USDA.

ACTION: Notice of public meeting.

SUMMARY: We are advising the public that the Animal and Plant Health Inspection Service is holding a public meeting to introduce, and obtain feedback on, one portion of our proposed ePermits system. This meeting will focus on applications and permits for transiting and importing plants and plant products, including propagative material, fruits and vegetables, logs and lumber, and material listed in the Convention on International Trade in Endangered Species of Wild Fauna and Flora.

DATES: The meeting will be held on Wednesday, August 24, 2005, from 9 a.m. to 4:30 p.m.

ADDRESSES: The public meeting will be held at the USDA Center at Riverside, 4700 River Road, Riverdale, MD.

FOR FURTHER INFORMATION CONTACT: Ms. Gwendolyn Burnett, Regulatory Permit Specialist, PPQ, APHIS, 4700 River Road Unit 133, Riverdale, MD 20737; phone (301) 734-8758, or e-mail: Gwendolyn.L.Burnett@aphis.usda.gov.

SUPPLEMENTARY INFORMATION: The Animal and Plant Health Inspection Service's (APHIS) Plant Protection and Quarantine program (PPQ) issues permits to persons who wish to import regulated plants and plant products into the United States or to transit regulated plants and plant products through the United States. Persons wishing to import plants and plant products or transit them through the United States must apply for a permit by submitting PPQ Form 585 (Application for Permit to Import Timber or Timber Products), Form 586 (Application for Permit to Transit Plants and/or Plant Products through the United States), Form 587 (Application for Permit to Import Plants or Plant Products), Form 588 (Application for Permit to Import Prohibited Plants or Plant Products for Experimental Purposes), or Form 621 (Application for Protected Plant Permit to Engage in the Business of Importing, Exporting, or Reexporting Terrestrial Plants), as appropriate. PPQ issued more than 3,500 permits in 2004.

The APHIS ePermits system is a Web-based user interface that supports the electronic filing, processing, and tracking of applications for APHIS permits, including plant and plant product, plant pest, animal and animal product, and biotechnology permits. The system is scheduled to become available on a limited basis in the fall of 2005, with a series of expansions to follow. When fully implemented, the system will allow applicants to apply for, track the status of, and receive permits using the Internet.

In order to provide an opportunity for applicants for various plant-related permits to review and comment on the software that has been developed for the ePermits system, APHIS is organizing a public meeting to demonstrate the capabilities of the online interface and the permit application data entry process. We will also provide information on short- and long-term plans for the ePermits system and how to register as an ePermits user. This meeting will focus on applications and permits for transiting and importing plants and plant products, including propagative material, fruits and vegetables, logs and lumber, and material listed in the Convention on International Trade in Endangered Species of Wild Fauna and Flora. The public meeting will be held in Riverdale, MD, on August 24, 2005, beginning at 9 a.m., and is scheduled to end at 4:30 p.m.

Registration

Due to space considerations, attendance at the public meeting will be limited to 50 people. We encourage preregistration. You may preregister by visiting http://www.aphis.usda.gov/ppq/permits/stakeholders/workshop2/index.html or by contacting the person listed under FOR FURTHER INFORMATION CONTACT by August 19, 2005. Onsite registration for any remaining spaces will be held on the day of the meeting from 8 a.m. to 10 a.m.

Parking and Security Procedures

Please note that a fee of $2.25 is required to enter the parking lot at the USDA Center at Riverside. The machine accepts $1 bills or quarters.

Picture identification is required to be admitted into the building. Upon entering the building, visitors should inform security personnel that they are attending the ePermits meeting.

Done in Washington, DC, this 22nd day of July 2005.
Elizabeth Gaston,
Acting Administrator, Animal and Plant Health Inspection Service.

[FR Doc. 05-15092 Filed 7-28-05; 8:45 am]

BILLING CODE 3410-34-P